Title 3—

The President

Proclamation 8470 of January 4, 2010

National Mentoring Month, 2010

By the President of the United States of America

A Proclamation

Every day, mentors in communities across our Nation provide crucial support and guidance to young people. Whether a day is spent helping with homework, playing catch, or just listening, these moments can have an enormous, lasting effect on a child’s life. During National Mentoring Month, we recognize those who give generously of themselves by mentoring young Americans.

As tutors, coaches, teachers, volunteers, and friends, mentors commit their time and energy to kids who may otherwise lack a positive, mature influence in their lives. Their impact fulfills critical local needs that often elude public services. Our government can build better schools with more qualified teachers, but a strong role model can motivate students to do their homework. Lawmakers can put more police officers on our streets and ensure our children have access to high-quality health care, but the advice and example of a trusted adult can keep kids out of harm’s way. Mentors are building a brighter future for our Nation by helping our children grow into productive, engaged, and responsible adults.

Many of us are fortunate to recall a role model from our own adolescent years who pushed us to succeed or pulled us back from making a poor decision. We carry their wisdom with us throughout our lives, knowing the unique and timeless gift of mentorship. During this month, I encourage Americans to give back by mentoring young people in their communities who may lack role models, and pass that precious gift on to the next generation.

NOW, THEREFORE, I, BARACK OBAMA, President of the United States of America, by virtue of the authority vested in me by the Constitution and the laws of the United States, do hereby proclaim January 2010 as National Mentoring Month. I call upon public officials, business and community leaders, educators, and Americans across the country to observe this month with appropriate ceremonies, activities, and programs.

IN WITNESS WHEREOF, I have hereunto set my hand this fourth day of January, in the year of our Lord two thousand ten, and of the Independence of the United States of America the two hundred and thirty-fourth.

[FR Doc. 2010-312

Filed 1-7-10; 11:15 am]

Billing code 3195-W0-P